DEPARTMENT OF HEALTH AND HUMAN SERVICES

Food and Drug Administration

[Docket No. 2003D-0386]

Agency Emergency Processing Under the Office of Management and Budget Review; Draft Guidance for Industry on Formal Dispute Resolution: Scientific and Technical Issues Related to Pharmaceutical Current Good Manufacturing Practice; Withdrawal

AGENCY: Food and Drug Administration, HHS.

ACTION: Notice; withdrawal.

SUMMARY: The Food and Drug Administration (FDA) is withdrawing a notice that published in the Federal Register on January 26, 2005 (70 FR 3712).

DATES: This notice is withdrawn on February 24, 2005.

FOR FURTHER INFORMATION CONTACT: Karen L. Nelson, Office of Management Programs (HFA-250), Food and Drug Administration, 5600 Fishers Lane, Rockville, MD 20857, 301-827-1482.

SUPPLEMENTARY INFORMATION: In the Federal Register of January 26, 2005, FDA published a notice informing interested parties that the proposed collection of information entitled “Draft Guidance for Industry on Formal Dispute Resolution: Scientific and Technical Issues Related to Pharmaceutical Current Good Manufacturing Practice” had been submitted to the Office of Management and Budget (OMB) for processing in compliance with (44 U.S.C. 3507(j), of the Paperwork Reduction Act of 1995 and 5 CFR 1320.13). The notice contains a number of errors. Therefore, we are withdrawing both the notice itself and the request for OMB approval of the proposed collection of information.

Dated: February 17, 2005.
Jeffrey Shuren,
Assistant Commissioner for Policy.

[FR Doc. 05-3596 Filed 2-23-05; 8:45 am]

BILLING CODE 4160-01-S